DEPARTMENT OF HEALTH AND HUMAN SERVICES

Administration for Children and Families

[Office of Management and Budget #:0970-0174]

Proposed Information Collection Activity; Native Employment Works (NEW) Plan Guidance and NEW Program Report

AGENCY: Division of Tribal Temporary Assistance for Needy Families Management, Office of Family Assistance, Administration for Children and Families, U.S. Department of Health and Human Services.

ACTION: Request for public comment.

SUMMARY: The Administration for Children and Families (ACF) is requesting a 3-year extension of the Native Employment Works (NEW) Plan Guidance and NEW Program Report (Office of Management and Budget (OMB) #0970-0174, expiration August 31, 2025). There are minor changes requested to the NEW Plan Guidance.

DATES: Comments due July 14, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The NEW Program Plan Guidance documents specify the information needed to complete a NEW program plan and explains the process for plan submission every third year and to complete the annual program report. The program plan is the application for NEW program funding and documents how the grantee will carry out its NEW program. The only proposed changes are the date of submission and the requirement that the plan be submitted electronically via the Online Data Collection system. The program report provides the U.S. Department of Health and Human Services (the Department), Congress, and grantees information to document and assess the activities and accomplishments of the NEW program. ACF proposes to extend the program report without changes.

Respondents: Indian tribes and tribal coalitions that operate NEW programs.

Annual Burden Estimates
Instrument | Total number of respondents (over 3 yrs.) | Annual number of responses per respondent | Average burden hours per response | Annual burden hours
NEW Program Plan Guidance | 37 | ¹ .333 | 29 | 357
NEW Program Report | 37 | 1 | 15 | 555
Total Estimated Annual Burden |  |  |  | 912
¹ We have used .333 responses per year to represent one submission of the NEW Program Plan Guidance during the 3-year approval period.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 612.

Mary C. Jones,
ACF/OPRE Certifying Officer.

[FR Doc. 2025-08662 Filed 5-14-25; 8:45 am]

BILLING CODE 4184-36-P